DEPARTMENT OF HEALTH AND HUMAN SERVICES

Centers for Disease Control and Prevention

National Institute for Occupational Safety and Health, (NIOSH), World Trade Center Health Program Science/Technical Advisory Committee (WTCHP-STAC)

Correction: This notice was published in the Federal Register on June 23, 2011, Volume 76, Number 121, Page 36926-36927. The notice for the aforementioned solicitation has been changed to extend the deadline for receiving nominations. Nominations should be submitted (postmarked or received) no later than 5 p.m. EST July 29, 2011.

The Director, Management Analysis and Services Office, has been delegated the authority to sign Federal Register notices pertaining to announcements of meetings and other committee management activities for both the Centers for Disease Control and Prevention, and the Agency for Toxic Substances and Disease Registry.

Dated: July 1, 2011.
Elizabeth A. Millington,
Acting Director, Management Analysis and Services Office, Centers for Disease Control and Prevention.

[FR Doc. 2011-17302 Filed 7-8-11; 8:45 am]

BILLING CODE 4163-18-P